DEPARTMENT OF DEFENSE

Office of the Secretary

Defense Business Board; Notice of Federal Advisory Committee Meeting

AGENCY: Office of the Deputy Secretary of Defense, Department of Defense (DoD).

ACTION: Notice of Federal advisory committee meeting.

SUMMARY: The DoD is publishing this notice to announce that the following Federal advisory committee meeting of the Defense Business Board (“the Board”) will take place.

DATES: Closed to the public May 7, 2024 from 9:00 a.m. to 7:05 p.m. and closed to the public May 8, 2024 from 8:30 a.m. to 11:50 a.m. All Eastern time.

ADDRESSES: The closed meeting will be held in room B7 of the Pentagon Library Conference Center, Room 4D728 in the Pentagon, and the U.S. Naval Research Laboratory, Washington, DC.

FOR FURTHER INFORMATION CONTACT: Ms. Cara Allison Marshall, Designated Federal Officer (DFO) of the Board in writing at Defense Business Board, 1155 Defense Pentagon, Room 5B1088A, Washington, DC 20301-1155; or by email at cara.l.allisonmarshall.civ@mail.mil; or by phone at 703-614-1834.

SUPPLEMENTARY INFORMATION: This meeting is being held under the provisions of chapter 10 of title 5, United States Code (U.S.C.) (commonly known as the “Federal Advisory Committee Act” or “FACA”), section 552b of title 5, U.S.C. (commonly known as the “Government in the Sunshine Act”), and 41 Code of Federal Regulations (CFR) section 102-3.140 and 102-3.150.

Purpose of Meeting: The mission of the Board is to examine and advise the Secretary and Deputy Secretary of Defense on overall DoD management and governance. The Board provides independent, strategic-level, private sector and academic advice and counsel on enterprise-wide business management approaches and best practices for business operations and achieving National Defense goals.

Agenda: The Board will begin in closed session on May 7 from 9:00 a.m. to 7:05 p.m. The DFO will begin the closed session followed by a welcome by Board Chair, Hon. Deborah James. The Board will receive a classified discussion on Implementing Emerging Technologies to Create Operational Strategic Effects from Mr. Jay Dryer, Director, Strategic Capabilities Office. This discussion will focus on using existing DoD tools and processes to adapt developing technology to key operational challenges in the National Defense Strategy (NDS). Next, the Board will receive a classified discussion on Current Affairs from Hon. Lloyd Austin, Secretary of Defense. This session is expected to focus on the state of the current global security environment and its implications for current and future business operations. The Board will receive a classified briefing on Naval Research Lab (NRL) Operations at the U.S. NRL, followed by a classified tour. This tour and discussion will explore management constructs unique to NRL's mission and personnel, to include developing and managing talent and communicating across a diverse workforce. This portion of the meeting will cover how NRL partners with industry to fulfill their mandate and demonstrates capabilities made possible by NRL's organizational constructs and authorities. The Board Chair, Hon Deborah James and Deputy Secretary, Hon. Kathleen Hicks will provide remarks, followed by a classified update on Industry Partnerships with the Director of Information Systems Agency (DISA), Lt Gen Robert J. Skinner, Director of DISA and the Commander of the Joint Force Headquarters-DoD Information Network. The Director will offer an overview of DISA's partnerships with various stakeholders to bolster warfighter capabilities, including how DISA is developing global situational awareness and assessing the threat against DISA operations and assets. He will discuss unique challenges of managing a DoD Agency and Field Activity, as well as provide insights on recommendations from the February 2023 DBB IT User Experience Study. The DFO will adjourn the closed session. The Board will reconvene in closed session May 8 from 8:30 a.m. to 11:50 a.m. in room B7 of the Pentagon Library Conference Center. The DFO will begin the closed session followed by a welcome by the Board Chair. The Board will receive a classified discussion on Growing Production Capacity for Crises from Dr. Erin Simpson, Director, Joint Production Accelerator Cell, Office of the Under Secretary of Defense for Acquisition & Sustainment. The conversation is expected to delve into actions the DoD is taking to prioritize resources and to create a modern, resilient defense industrial ecosystem designed to deter United States adversaries and meet the production demands posed by evolving threats.

Dr. Simpson will elaborate on the obstacles confronting the DoD in building resilient supply chains. Next, the Board will receive a classified discussion on Emerging Global Threats, including the Supply Chain, and their Potential Implications for the NDS from MG Joseph “JP” McGee, U.S. Army, Director for Strategy, Plans & Policy, J5. This discussion will focus on strategic proactiveness to ensure adaptability, resilience, and continued effectiveness in an ever-evolving security landscape and on how the DoD can partner with industry before and during crises. After a short break, the Board will receive their final classified discussion on Making DoD Work Attractive to Non-Traditional Companies from Hon. Kathleen Hicks. The Deputy Secretary will share successes the DoD has realized in becoming a better partner for non-traditional defense companies, along with how combinations of traditional and non-traditional companies are working together to accelerate capability development and delivery. The DFO will adjourn the closed session. The latest version of the agenda will be available on the Board's website at: https://dbb.dod.afpims.mil/Meetings/Meeting-May-7-8-2024/.

Meeting Accessibility: In accordance with 5 U.S.C. 1009(d) and 41 CFR 102-3.155, it is hereby determined that the May 7-8 meeting of the Board will include classified information and other matters covered by 5 U.S.C. 552b(c)(1) and that, accordingly, the meeting will be closed to the public. This determination is based on the consideration that it is expected that discussions throughout the meeting will involve classified matters of national security. Such classified material is so intertwined with the unclassified material that it cannot reasonably be segregated into separate discussions without defeating the effectiveness and meaning of the meeting. To permit the meeting to be open to the public would preclude discussion of such matters and would greatly diminish the ultimate utility of the Board's findings and recommendations to the Secretary of Defense and the Deputy Secretary of Defense.

Written Comments and Statements: Pursuant to 41 CFR 102-3.105(j) and 102-3.140 and 5 U.S.C. 1009(a)(3), the public or interested organizations may submit written comments or statements to the Board in response to the stated agenda of the meeting or regarding the Board's mission in general. Written comments or statements should be submitted to

Ms. Cara Allison Marshall, the DFO, via electronic mail (the preferred mode of submission) at the address listed in the FOR FURTHER INFORMATION CONTACT section. Each page of the comment or statement must include the author's name, title or affiliation, address, and daytime phone number. The DFO must receive written comments or statements submitted in response to the agenda set forth in this notice by close of business Friday, May 3, 2024, to be considered by the Board. The DFO will review all timely submitted written comments or statements with the Board Chair and ensure the comments are provided to all members of the Board before the meeting. Written comments or statements received after this date may not be provided to the Board until its next scheduled meeting. Please note that all submitted comments and statements will be treated as public documents and will be made available for public inspection, including, but not limited to, being posted on the Board's website.

Dated: April 17, 2024.
Aaron T. Siegel,
Alternate OSD Federal Register Liaison Officer, Department of Defense.

[FR Doc. 2024-08589 Filed 4-22-24; 8:45 am]

BILLING CODE 6001-FR-P